ENVIRONMENTAL PROTECTION AGENCY

[FRL-6717-5 ]

RIN 2040-AC20

Effluent Guidelines Plan

AGENCY: Environmental Protection Agency (EPA).

ACTION: Notice of Proposed Effluent Guidelines Plan.

SUMMARY: Section 304(m) of the Clean Water Act requires EPA to publish an Effluent Guidelines Plan every two years. Today's notice describes the Agency's ongoing effluent guidelines development efforts and proposes EPA's plans for developing new and revised effluent guidelines, which regulate industrial discharges to surface waters and to publicly owned treatment works. The Agency requests comment on the proposal and will publish a final plan after the comment period ends.

DATES: Comments must be received on or before July 17, 2000.

ADDRESSES: The public record for this notice is located in the EPA Water Docket, Room EB 57 East Tower, 401 M St., SW., Washington, DC 20460.

FOR FURTHER INFORMATION CONTACT: James Lund, Engineering and Analysis Division (4303), telephone 202-260-7811.

SUPPLEMENTARY INFORMATION:

Comments and Record

Please send an original and 3 copies of your comments and enclosures (including references) to Comment Clerk, Docket Number W-00-14, Water Docket (MC4101), USEPA, 1200 Pennsylvania Ave., NW., Washington, DC 20460. Comments must be received or post-marked by midnight July 17, 2000.

Commenters who want EPA to acknowledge receipt of their comments should enclose a self-addressed, stamped envelope. No facsimiles (faxes) will be accepted. Comments may also be submitted electronically to ow-docket@epamail.epa.gov. Electronic comments must be submitted as an ASCII, WP5.1, WP6.1 or WP8 file that does not contain special characters or encryption. Electronic comments must be identified by the docket number W-00-14. You may also submit comments and data on disks in WP 5.1, 6.1, 8 or ASCII file format, or electronically at many online Federal Depository Libraries.

The public record for this notice has been established under docket number W-00-14 and is available for review in the EPA Water Docket, East Tower Basement, Room EB 57, 401 M Street, SW., Washington, D.C. from 9 to 4 p.m., Monday through Friday, excluding legal holidays. Please call 202/260-3027 to schedule an appointment to see docket materials. The EPA public information regulation (40 CFR Part 2) provides that a reasonable fee may be charged for copying.

Outline

I. Regulated Entities

II. Legal Authority

III. Introduction

IV. Effluent Guidelines Program Background

A. Legal Framework

B. Components of an Effluent Guideline Regulation

C. Effluent Guideline Regulations Promulgated Since the Last 304(m) Plan

1. Pharmaceutical Manufacturing

2. Industrial Laundries

3. Landfills and Commercial Hazardous Waste Combustors

V. Recent Improvements in the Development of Effluent Guideline Regulations

VI. Today's Proposed Effluent Guidelines Plan

A. Rulemaking Activities Started in 1999

1. Meat Products

2. Aquaculture

B. Effluent Guidelines Currently Under Development

VII. Future Direction of the Effluent Guidelines Program

A. Targeting the Most Significant Environmental Problems

B. Targeting Industry Sectors That May Be Candidates for Pollution Prevention and Multi-Media Rulemaking

C. Targeting Sources That are Difficult to Permit

D. Involving Stakeholders in the Year 2002 Section 304(m) Plan

VIII. Request for Comments

IX. Economic Impact Assessment; E.O. 128866

I. Regulated Entities

Today's proposed plan does not contain regulatory requirements. Rather, it identifies industrial categories that EPA has already chosen for new or revised effluent guidelines regulation and sets forth the schedules for those rulemaking efforts. Entities that could be affected by the forthcoming effluent limitations guidelines and standards identified in this proposed plan are:

Category of Entity | Examples of potentially affected entities
Industry/Commercial/Agriculture | Pulp, Paper and Paperboard; Synthetic-Based Drilling Fluids (oil and gas production); Centralized Waste Treatment; Metal Products and Machinery (including electroplating, metal finishing); Transportation Equipment Cleaning (truck tanks, railroad tank cars, barge tanks); Iron and Steel Manufacturing; Coal Mining; builders and developers engaged in construction, development, and redevelopment; Feedlots (swine, poultry, dairy and beef cattle); Aquaculture (fish hatcheries and farms); Meat Products (slaughtering, rendering, packing, and processing of red meat and poultry).
Federal Government | Metal Products and Machinery (including electroplating, metal finishing); builders and developers engaged in construction, development, and redevelopment.
State Government | Metal Products and Machinery (including electroplating, metal finishing); builders and developers engaged in construction, development, and redevelopment.
Local Government | Metal Products and Machinery (including electroplating, metal finishing); builders and developers engaged in construction, development and redevelopment.

II. Legal Authority

Today's notice is published under the authority of section 304(m) of the Clean Water Act, 33 U.S.C. 1314(m).

III. Introduction

Today's notice announces the Agency's proposed section 304(m) plan for 2000, including the two new effluent guidelines regulations that EPA started in 1999 (Meat Products and Aquaculture). Today's notice also outlines a preliminary framework by which EPA, working with its State partners, the regulated community, and concerned citizens, can build upon the successes of its effluent guidelines program for the next decade and beyond. EPA invites the public to comment on all aspects of today's notice and particularly welcomes comments regarding the ways in which EPA can use its effluent guidelines program to achieve sustained environmental improvements.

With the 1972 passage of the landmark Clean Water Act, EPA was charged with developing effluent limitations guidelines and standards that would provide a minimum, technology-based threshold for ongoing improvements in effluent quality. The legislative history of CWA section 304(b), which is the heart of the effluent guidelines program, describes the need to press toward higher levels of control through research and development of new processes, modifications, replacement of obsolete plans and processes, and other improvements in technology, taking into account the cost of controls. See Statement of Senator Muskie (Oct. 4, 1972), reprinted in Legislative History of the Clean Water Act of 1972, at 170.

To date, EPA has promulgated effluent limitations guidelines for more than 50 industrial categories affecting approximately 30,000 facilities that discharge directly to the Nation's waters. If EPA includes pretreatment controls for sources that discharge into publicly owned treatment works (POTWs), EPA's effluent limitations guidelines and standards regulate the effluent from approximately 45,000 facilities. These technology-based regulations are responsible for preventing the discharge of more than a billion pounds of priority toxic pollutants each year. These toxic pollutants include chemicals known to cause or contribute to cancer, hinder mental and motor development in children, impact the central nervous system, and damage major organs, such as the kidney and liver.

These regulations have helped to reverse the degradation of water quality that accompanied industrialization in this country by reducing the discharge of pollutants that kill or impair aquatic organisms, degrade aquatic ecosystems, or cause human health problems through ingestion of contaminated water, fish, or shellfish. Rivers that once were impaired now sustain thriving ecosystems. Waterways once suitable for little more than transportation are now valued recreational resources, often leading to expanded tourism and increased value of waterfront property.

These regulations have accomplished water quality improvements through cost-effective control of pollutants. This in turn has allowed growth and expansion of industry concurrent with an improved quality of life for generations to come.

While EPA is very proud of these accomplishments, we recognize that water quality problems have not been eliminated. Despite successes in reducing water pollution, approximately 40 percent of the Nation's waters assessed by the States and Tribes do not meet State or Tribal water quality standards. In 1998, States identified more than 20,000 such waters in their section 303(d) lists of impaired waters, comprising approximately 300,000 miles of impaired rivers and streams and 7.9 million acres of lakes. The overwhelming majority of Americans live within ten miles of a polluted waterbody. The pollutants most frequently identified as causing water impairment are siltation, excess nutrients, and harmful pathogens. Toxics pollutants (including metals, mercury and pesticides) also contribute to water quality impairments. As EPA establishes new or revised effluent limitations guidelines for pollutants discharged by categories or classes of sources, we expect that fewer waters will need additional water quality-related controls to meet water quality standards.

As discussed in greater detail in Section VII below, EPA intends to continue to use the effluent guidelines program to provide even greater protection of human health and the environment. EPA expects that, from 1995 to 2005, the effluent guidelines program will prevent an additional nine million pounds of priority toxic pollutants and 1.5 billion pounds of conventional and nonconventional pollutants from entering the Nation's waters each year. EPA believes that most stakeholders recognize the continuing role of effluent guidelines in helping achieve the objectives of the Clean Water Act, although EPA also recognizes that there are many paths. For this reason, EPA believes it is critical to engage in an ongoing dialogue with the interested public about the future role of the program. EPA intends today's notice to start that dialogue.

IV. Effluent Guidelines Program Background

A. Legal Framework

The Clean Water Act directs EPA to promulgate effluent limitations guidelines and standards that, for most pollutants, reflect the level of pollutant control achievable by the best available technologies economically achievable for categories or subcategories of industrial point sources. See CWA sections 301(b)(2), 304(b), 306, 307(b) and 307(c). For point sources that introduce pollutants directly into the Nation's waters (i.e., direct dischargers), the limitations and standards promulgated by EPA are implemented in National Pollutant Discharge Elimination System (NPDES) permits. See CWA sections 301(a), 301(b) and 402. For sources that discharge to POTWs (i.e., indirect dischargers), EPA promulgates pretreatment standards that apply directly to those sources and are enforced by POTWs backed by State and Federal authorities. See CWA sections 307(b) and (c).

Section 304(m) requires EPA to publish a plan every two years that consists of three elements. First, under section 304(m)(1)(A), EPA is required to establish a schedule for the annual review and revision of existing effluent guidelines in accordance with section 304(b). Section 304(b) applies to effluent limitations guidelines for direct dischargers and requires EPA to revise such regulations as appropriate. Second, under section 304(m)(1)(B), EPA must identify categories of sources discharging toxic or nonconventional pollutants for which EPA has not published effluent limitations guidelines under 304(b)(2) or new source performance standards (NSPS) under section 306. Finally, under 304(m)(1)(C), EPA must establish a schedule for the promulgation of effluent limitations guidelines under 304(b)(2) and NSPS for the categories identified under subparagraph (B) not later than three years after being identified in the 304(m) plan. Section 304(m) does not apply to pretreatment standards for indirect dischargers, which EPA promulgates pursuant to sections 307(b) and 307(c) of the Clean Water Act.

On October 30, 1989, Natural Resources Defense Council, Inc., and Public Citizen, Inc., filed an action against EPA in which they alleged, among other things, that EPA had failed to comply with CWA section 304(m). Plaintiffs and EPA agreed to a settlement of that action in a consent decree entered on January 31, 1992. The consent decree, which has been modified several times, established a schedule by which EPA is to propose and take final action for eleven point source categories identified by name in the decree, see Consent Decree, pars. 2(a) and 4(a), and for eight other point source categories identified only as new or revised rules, numbered 5 through 12, see Consent Decree par. 5(a).

The schedule has been modified several times since 1992. The last date for EPA action under the decree, as modified, is June 2004. The decree also established deadlines for EPA to complete studies of eight identified and three unidentified point source categories. See Consent Decree, par. 3(a). The decree further provides that the foregoing requirements shall be set forth in EPA's section 304(m) plans. See Consent Decree, pars. 3(a), 4(a), 5(a). Under the decree, EPA is directed to use the studies as well as other available information to select the eight point source categories for which EPA has agreed to issue new or revised rules under paragraph 5(a). Finally, the consent decree provides that section 304(m) plans issued subsequent to the decree that are consistent with its terms shall satisfy EPA's obligations under section 304(m) with respect to the publication of such plans. See Consent Decree, par. 7(b).

The decree also required EPA to establish an Effluent Guidelines Task Force to make recommendations for improvements to the effluent guidelines program. See Consent Decree, par. 8. EPA did so in 1992. The Task Force, which was created to offer advice to the EPA Administrator on a process for expediting the promulgation of effluent guidelines, among other topics, consists of members appointed by the Agency from industry, citizen groups, state and local governments, the academic and scientific communities, and EPA's Office of Research and Development. The Task Force has held several public meetings each year since 1992 and has submitted recommendations to the EPA Administrator.

B. Components of an Effluent Guideline Regulation

The principal components of most effluent guideline regulations are numerical wastewater discharge limitations controlling specified pollutants for a given industrial point source category or subcategory. These are typically concentration-based limits (specified in units such as milligrams of pollutant per liter of water) or production-based mass limits (specified in units such as milligrams of pollutant per unit of production). Numerical limits also cover parameters such as pH and temperature.

When developing an effluent guideline regulation, EPA often subcategorizes an industrial category based on differences in raw materials, manufacturing processes, characteristics of the wastewaters, or type of product manufactured. Sometimes, EPA establishes subcategories based on economic impacts, non-water quality environmental impacts or other appropriate factors that justify the imposition of specialized requirements on facilities in segments of an industry. Typically, EPA develops a set of effluent limitations for each category, subcategory or segment.

In some cases, a regulation may prescribe Best Management Practices (BMPs) in addition to or in lieu of numerical limits. BMPs may include, for example, requirements addressing the minimization or prevention of storm water runoff, plant maintenance schedules, and requirements addressing the training of plant personnel. See, e.g., 40 CFR 430.03 (BMPs for portions of the Pulp, Paper and Paperboard category).

C. Effluent Guideline Regulations Promulgated Since the Last 304(m) Plan

In addition to the Airport Deicing Preliminary Study, which EPA completed in December 1999, EPA completed the following regulatory efforts since the last 304(m) plan:

1. Pharmaceutical Manufacturing

The Administrator published a final rule for the Pharmaceutical Manufacturing Category in the Federal Register on September 21, 1998 (63 FR 50387).

2. Industrial Laundries

The Administrator published a final decision in the Federal Register on August 18, 1999 (64 FR 45071) with respect to the proposed industrial laundries industry effluent guideline. In that notice, the Administrator announced the Agency's decision not to promulgate effluent limitations guidelines and standards for that industrial category.

3. Landfills and Commercial Hazardous Waste Combustors

The Administrator published final rules for the Landfills industry in the Federal Register on January 19, 2000 (65 FR 3007), and for the Commercial Hazardous Waste Combustors industry on January 24, 2000 (65 FR 4360).

V. Recent Improvements in the Development of Effluent Guideline Regulations

EPA has accumulated a great deal of experience and expertise in the course of preparing more than 50 effluent guidelines. Since the last 304(m) Plan was announced in 1998, EPA has made significant progress in expediting effluent guideline development. For many of the effluent guidelines underway, EPA is in the process of revising existing regulations to address specific environmental issues. In many of these instances, EPA is focusing on the segments of the industry most pertinent to those environmental issues and is collecting data on pollutants of greatest concern.

In turn, these focused efforts make it possible for EPA, in several cases, to use existing data instead of requiring regulated entities to respond to detailed questionnaires. Greater involvement of other government agencies, other offices within EPA, industry, equipment vendors, and environmental interest groups is crucial to the success of this approach. For several rules, including the effluent guidelines for the Synthetic-Based Drilling Fluids (Oil and Gas Production) category and the Metal Products and Machinery category, stakeholders expressed an interest in submitting sampling data for EPA's consideration. The Office of Water worked with these stakeholders in order to ensure that the information they submitted met EPA's data quality needs.

The Office of Water also adopted an approach that has been successfully used in many instances by the Office of Air and Radiation. This approach, sometimes called the “presumptive” approach, involves the early identification of one technology option through a combination of stakeholder involvement and early analysis of available information. This approach is particularly useful for those industry sectors for which relatively few technologies have been identified or implemented.

As a result, EPA is significantly expediting the proposal of regulations. On average, this means that EPA now issues its proposed regulations approximately 30 months from the start of the process, compared to the traditional 60 month schedule that was common in earlier years of the program.

VI. Today's Proposed Effluent Guidelines Plan

A. Rulemaking Activities Started in 1999

EPA has learned that States and Regions have a strong interest in EPA promulgating new or revised regulations to address nutrient loadings. The new selections reflect the Agency's desire to reduce nutrient loadings and improve the quality of our Nation's waters.

1. Meat Products

This industry includes approximately 1,300 packing plants, 1,100 plants that perform “further processing” of meats, 270 rendering facilities, and 370 poultry processing facilities. Although guidelines for the control of water pollution from these facilities were established in the mid-1970's, those regulations do not include controls on nutrients. Moreover, no guidelines of any kind were promulgated for the poultry sector. Some of these facilities contribute nutrient loadings in environmentally sensitive areas. Improvements in waste treatment to control nutrients and pathogens are available, but changes in industry practices to increase food safety, health, and sanitation concerns may affect the design and cost of those controls.

2. Aquaculture

The Aquaculture category includes close to 5,000 facilities (both land-based and marine-based) with locations in every state and in Puerto Rico. It is currently the fastest growing segment of U.S. agriculture. EPA produced a guidance document for the control of wastewater from fish hatcheries and farms in 1977, but no national effluent limitations guidelines have ever been promulgated for this industry.

Some aquaculture facilities contribute nutrients and pathogens to environmentally sensitive areas such as the Gulf of Mexico, the Chesapeake Bay, and other estuaries, rivers, lakes, and streams throughout the country. Improvements in wastewater treatment within the Aquaculture category have been used by some facilities to reduce the pollutant load. EPA's regulatory development will consider the availability and affordability of effluent limits based on these wastewater treatment technologies. EPA will develop regulatory options that apply to the following types of aquatic animal production: ponds, net pens (including pens in open waters), raceways, and recirculating systems. EPA will consider establishing limitations to control nutrients, total suspended solids, human and non-human pathogens, antibiotics, pesticides, and biological impairments due to the introduction of non-native species.

B. Effluent Guidelines Currently Under Development

The status of the regulations for new or revised effluent guidelines are set forth in Table 1.

Table 1.—Effluent Guidelines Currently Under Development
Category | Federal Register Cite/Proposal Date | Final action date
Transportation Equipment Cleaning | 63 FR 34685 (June 25, 1998) | 6/15/00
Centralized Waste Treatment | 60 FR 5464 (January 27, 1995); 64 FR 2279 (January 13, 1999) | 8/31/00
Synthetic-Based Drilling Fluids (Oil and Gas Production) | 64 FR 5487 (February 3, 1999) | 12/00
Coal Mining | 65 FR 19439 (April 11, 2000) | 12/01
Iron and Steel Manufacturing | 10/00 | 4/02
Metal Products and Machinery, Phases I and II | 60 FR 28209 (May 30, 1995)—Phase I only; 10/00 (Phase I and II) | 12/02
Construction and Development | * 12/00 | * 12/02
Feedlots (Poultry, Swine, Beef, and Dairy Subcategories) | 12/15/00 | 12/15/02
Pulp, Paper, and Paperboard, Phases 2 & 3 | 58 FR 66078 (December 17, 1993) | 2000-2002
Meat Products | 12/01 | 12/03
Aquaculture | 6/30/02 | 6/30/04
* EPA is discussing extensions to Consent Decree dates with NRDC

VII. Future Direction of the Effluent Guidelines Program

The effluent guidelines program is one of EPA's most successful environmental protection programs. EPA develops performance standards based on demonstrated technologies that are affordable for industry as a whole. Supported by sound data and analysis, the effluent guidelines program strives for the greatest pollutant reductions that can be economically achieved within the regulated community. In setting performance standards, EPA considers pollution prevention approaches in addition to more traditional treatment technologies, with the result that the air and soil also benefit from wastewater regulations.

Moreover, this program gives the regulated community considerable flexibility in achieving the performance standards. Thus, dischargers are encouraged to develop less expensive alternatives to comply with the performance standards than those identified by the Agency. Invariably, the more cost-effective technologies and processes often become the industry norm—in this way yielding even greater environmental results at lower cost than contemplated by the regulation itself.

In the future, the effluent guidelines program will evolve to face new challenges. New or revised effluent guidelines can help solve the serious water quality problems still remaining in the Nation's waterways, which are most frequently caused by excess nutrients, sedimentation, pathogens, metals, and toxic pollutants. Also, more stringent levels of pollution reduction are now economically achievable in some industrial categories or subcategories due to the emergence of new or innovative pollution control technologies. To help plan for the future, EPA intends to use the section 304(m) planning process established by the Clean Water Act to expand its dialogue with the interested public regarding how to use the effluent guidelines program to achieve the greatest environmental benefits.

As discussed above, section 304(m)(1) requires EPA every two years to identify industry categories for new or revised regulations and to establish a schedule for final action on those rules. Consistent with the consent decree pertaining to section 304(m), EPA discharged this duty in December 1999 when it identified Aquaculture and Meat Products as categories for new effluent guidelines and established schedules for those rules. The 2000 section 304(m) plan will report that action. Now, EPA is beginning the process for developing its section 304(m) plan for the year 2002.

As EPA looks forward to the 2002 section 304(m) plan, selection criteria will be critical. Based on recommendations of the Effluent Guidelines Task Force, EPA has identified criteria for selecting categories for new or revised effluent guidelines. These include categories with potential multi-media impacts that may be candidates for coordinated rulemakings and categories that cause environmental impacts.

In order to apply these selection criteria, EPA needs to assemble information for numerous industrial categories. Possible information sources are discussed below.

A. Targeting the Most Significant Environmental Problems

EPA identified three currently available sources of information to help determine the most significant environmental problems. First, EPA's Office of Pollution Prevention and Toxics has developed a risk model called “Risk Screening Environmental Indicators” (RSEI). This model can be used to perform screening-level analyses of the potential risk-related impacts associated with releases reported in the Toxic Release Inventory. Many of the sources modeled to have the highest risk to water are in one of the metals industries, such as the Iron and Steel industry or the Metal Products and Machinery industry, for which effluent limitations guidelines development or revision is already underway. Second, pursuant to section 303(d) of the Clean Water Act and EPA's implementing regulations, States must list waters that do not meet applicable water quality standards after application of technology-based and other controls. These section 303(d) lists identify the pollutants and the source categories that may be responsible for the water quality impairments. Third, pursuant to section 305(b) of the Clean Water Act, States report the quality of their waters every two years. The source categories reported as the cause of impairment in these reports are consistent with those listed under section 303(d).

EPA notes that there is no overlap between the categories ranking highest using the RSEI risk model and the categories listed by the States as contributing to siltation, nutrients, and pathogens. This finding is not particularly surprising because the assessment factors differ, e.g., chronic human health impacts in the case of the RSEI risk model, in contrast to emphases on aquatic ecosystem health as well as other designated use impairments, in the case of the section 303(d) lists and 305(b) reports.

B. Targeting Industry Sectors That May Be Candidates for Pollution Prevention and Multi-Media Rulemaking

Through its sector-based activities, such as the Common Sense Initiative, EPA recognizes that addressing all environmental concerns from an industry sector concurrently can improve pollution prevention, resulting in better environmental results at lower cost than addressing the environmental releases one media at a time. EPA's Task Force on Coordinated Rulemaking, which was created to identify and initiate sector-based rulemakings that would benefit from a cross-Agency, multi-program coordinated effort, is one attempt to capitalize on this concept. The Task Force on Coordinated Rulemaking is one potential source of information on possible sectors for future effluent guideline development.

Another potential source is EPA's Integrated Urban Strategy of the National Air Toxics Program. Although this strategy presents a framework for reducing air toxics (i.e., hazardous air pollutants) in urban areas, many of the sources that have been identified contribute pollutants to the water environment as well. The link between wastewater treatment and air emissions, like the link between air emission treatment and wastewater, may point to a coordinated approach for addressing the highest risk sources.

C. Targeting Sources That are Difficult to Permit

Effluent limitations guidelines establish nationally applicable standards that are implemented through NPDES discharge permits issued by authorized States and Tribes or EPA. In the absence of these regulations, permit writers must determine technology-based limitations using their best professional judgment. Our State and Tribal regulatory partners are some of the best sources of information about the adequacy and coverage of existing effluent limitations guidelines. States and Tribes have helped to identify many of the sectors for which effluent guidelines are currently being developed or revised.

D. Involving Stakeholders in the Year 2002 Section 304(m) Plan

To help prepare the year 2002 section 304(m) plan, EPA plans to engage all interested parties in a dialogue about how to make the section 304(m) planning process succeed—and how to define success. The Agency has already launched the dialogue through discussions with the Effluent Guidelines Task Force, whose membership reflect a variety of stakeholder viewpoints. Based on those discussions, EPA proposes and solicits public comment regarding the following planning strategy.

First, EPA intends to seek the views of as many interested persons as possible, with particular emphasis on individuals and organizations associated with industry, environmental interest groups, and State, Tribal and local governments. EPA expects to explore issues associated with the future and objectives of the effluent guidelines program and criteria EPA should employ in selecting among industry categories for possible new or revised effluent guidelines regulations. EPA also hopes to gather specific information regarding pollution problems and possible sources that will allow EPA to make its selection decisions for the coming years.

EPA intends to reach out to interested stakeholders primarily by attending and where possible participating in meetings and conferences sponsored by members of these communities, as well as through its website (http://www.epa.gov/ost) and less formal meetings. Members of the Effluent Guidelines Task Force have also agreed to assist EPA in this outreach effort. At this point, EPA envisions that this outreach will culminate in a one or two day highly focused national meeting of interested stakeholders in early December 2000 for the purpose of discussing how EPA can best use the effluent guidelines program to advance the Nation's most important water pollution problems, including a discussion of selection criteria and information sources. EPA also intends to discuss whether EPA's procedures for implementing the requirements of CWA section 304(m), including the process for selecting industrial categories for new or revised effluent guidelines, should be codified in federal regulations. The Effluent Guidelines Task Force has expressed preliminary support for such a regulation.

Next, assuming that there is support for EPA to develop a regulation to implement section 304(m), EPA would hope to propose such a regulation for public comment in May 2001. EPA expects that the content of the regulation would be greatly influenced by the discussions at the national stakeholders meeting. The Effluent Guidelines Task Force has indicated its willingness to work with EPA in developing any such proposed section 304(m) regulation. If EPA proposes a section 304(m) regulation, EPA also envisions proposing for public comment at the same time its section 304(m) plan for 2002. In this scenario, EPA expects that the proposed plan would apply the principles set forth in the accompanying proposed section 304(m) regulation, thereby giving the public an opportunity to evaluate the proposed regulation in terms of how EPA would apply it.

Finally, EPA intends to issue a final section 304(m) plan in February 2002. Again assuming that EPA proceeds with the regulation, EPA hopes to promulgate at the same time a final regulation to guide EPA in implementing section 304(m) for the future.

VIII. Request for Comments

EPA invites public comment on today's proposed plan and most particularly on the section 304(m) planning strategy described immediately above. The Agency will accept comments until July 17, 2000. In particular, the Agency wants to learn about other sources of data that would help it compare wastestream characteristics, treatment practices, and effects on water quality among different discharger categories. EPA also requests comments on methodologies by which the Agency, together with our regulatory partners, technology experts, and other stakeholders, can annually review the applicability and potential economic impacts of technological advances on industries regulated by effluent guidelines. EPA also requests comment on potential methodologies for identifying categories of sources discharging toxic or nonconventional pollutants for which effluent limitations guidelines under 304(b)(2) and NSPS have not been published.

IX. Economic Impact Assessment; Executive Order 12866

Today's notice proposes a plan for the review and revision of existing effluent guidelines and for the selection of priority industries for new regulations. This notice is not a “rule” subject to 5 U.S.C. 553 and does not establish any requirements; therefore, EPA has not prepared an economic impact assessment. EPA will provide economic impact analyses, regulatory flexibility analyses or regulatory impact assessments, as appropriate, for all of the future effluent guideline rulemakings developed by the Agency.

Under Executive Order 12866 (58 FR 51735, October 4, 1993), the Agency must determine whether the regulatory action is “significant” and, therefore, subject to Office of Management and Budget (OMB) review and the requirements of the Executive Order. The Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

It has been determined that this plan is not a “significant regulatory action” under the terms of Executive Order 12866 and is therefore not subject to OMB review.

Dated: June 2, 2000.
Dana D. Minerva,
Acting Assistant Administrator for Water.

[FR Doc. 00-15298 Filed 6-15-00; 8:45 am]

BILLING CODE 6560-50-P